DEPARTMENT OF THE INTERIOR

Bureau of Land Management

[NV-050-5853-ES; N-75562; 8-08807]

Notice of Realty Action: Recreation and Public Purposes Act Classification of Public Lands in Clark County, Nevada

AGENCY: Bureau of Land Management, Interior.

ACTION: Notice of Realty Action.

SUMMARY: The Bureau of Land Management (BLM) has examined and found suitable for classification for lease and subsequent conveyance under the provisions of the Recreation and Public Purposes (R&PP) Act, as amended, approximately 28.75 acres of public land in Clark County, Nevada. The City of Las Vegas (City) proposes to use the land as a public park.

DATES: Interested parties may submit comments regarding the proposed lease/conveyance or classification of the lands until November 30, 2007.

ADDRESSES: Send written comments to the BLM Field Manager, Las Vegas Field Office, 4701 N. Torrey Pines Drive, Las Vegas, NV 89130-2301.

FOR FURTHER INFORMATION CONTACT: Kim Liebhauser, Supervisory Realty Specialist, Las Vegas Field Office, (702) 515-5088.

SUPPLEMENTARY INFORMATION: The following described public lands in Las Vegas, Clark County, Nevada have been examined and found suitable for classification for lease and subsequent conveyance under the provisions of the R&PP Act, as amended (43 U.S.C. 869 et seq.).

The City of Las Vegas proposes to use the 28.75 acres of land for a public park. The park amenities will include lacrosse fields, a tot play area, shade pavilions, restrooms, landscaping and parking. The park will serve citizens in the northwest sector of the City, where rapid growth has occurred. The parcel of public land is generally located west of Durango Drive, between Centennial Parkway and Tropical Parkway, and is legally described as:

Mount Diablo Meridian, Nevada

T. 19 S., R. 60 E.,

Section 29, E½SW¼NW¼NE¼, N½SW¼NE¼, S½NE¼NW¼SE¼NE¼, NW¼NW¼SE¼NE¼.

The area described contains 28.75 acres, more or less.

The land is not required for any federal purpose. The proposed action is in conformance with the Las Vegas Resource Management Plan approved on October 5, 1998, and would be in the public interest. The Plan of Development has been reviewed and it is determined the proposed action conforms with land use plan decision, LD-1, established in accordance with section 202 of FLPMA, as amended (43 U.S.C. 1712). The lease/conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine, and remove such deposits from the lands under applicable law and such regulations as the Secretary of the Interior may prescribe, including all necessary access and exit rights.

The lease/conveyance for N-75562 will also be subject to:

1. Valid existing rights;

2. Right-of-Way N-52442 for underground 15KV distribution line and telephone line purposes granted to Nevada Power Company, its successors or assigns, and Central Telephone Company, its successors or assigns, pursuant to the Act of October 21, 1976 (43 U.S.C. 1761);

3. Right-of-Way N-52442-01 for Temporary Use Permit purposes granted to Nevada Power Company, its successors or assigns, and Central Telephone Company, its successors or assigns, pursuant to the Act of October 21, 1976 (43 U.S.C. 1764);

4. Right-of-Way N-59832 for roadway purposes granted to Clark County, its successors or assigns, pursuant to the Act of October 21, 1976 (43 U.S.C. 1761);

5. Right-of-Way N-78337 for underground electrical distribution line purposes granted to Nevada Power Company, its successors or assigns, pursuant to the Act of October 21, 1976 (43 U.S.C. 1761);

6. Right-of-Way N-82735 for 15KV underground distribution line purposes granted to Nevada Power Company, its successors or assigns, pursuant to the Act of October 21, 1976 (43 U.S.C. 1761); and

7. Right-of-Way N-82735-01 for Temporary Use Permit purposes granted to Nevada Power Company, its successors or assigns, pursuant to the Act of October 21, 1976 (43 U.S.C. 1764).

On October 16, 2007, the land described above will be segregated from all other forms of appropriation under the public land laws, including the general mining laws, except for lease/conveyance under the R&PP Act, leasing under the mineral leasing laws, and disposals under the mineral material disposal laws. Classification comments may be submitted involving the suitability of the land for a public park. Comments on the classification are restricted to whether the lands are physically suited for the proposal, whether the use will maximize the future use of uses of the land, whether the use is consistent with local planning and zoning, or if the use is consistent with State and Federal programs. The classification of the land described in this Notice will become effective December 17, 2007.

The lands will not be offered for lease/conveyance until after the classification becomes effective.

Interested parties may submit comments regarding the specific use proposed in the application and Plan of Development, whether the BLM followed proper administrative procedures in reaching the decision to lease/convey under the R&PP Act, or any other factor not directly related to the suitability of the land for a public park.

Only written comments submitted by postal service or overnight mail to the Field Manager, BLM Las Vegas Field Office will be considered properly filed. Electronic mail, facsimile or telephone comments will not be considered properly filed. Documents related to this action are on file at the BLM Las Vegas Field Office at the address above and may be reviewed by the public at their request.

Before including your address, phone number, e-mail address, or other personal identifying information in your comment, you should be aware that your entire comment—including your personal identifying information—may be made publicly available at any time. While you can ask us in your comment to withhold your personal identifying information from public review, we cannot guarantee that we will be able to do so.

Comments will be reviewed by the BLM Nevada State Director who may sustain, vacate, or modify this realty action in whole or in part.

The decision will become effective on December 17, 2007. The lands will not be available for lease/conveyance until after the decision becomes effective.

(Authority: 43 CFR 2741.5)

Dated: October 4, 2007.
Philip Rhinehart,
Supervisory Realty Specialist, Acting Assistant Field Manager, Las Vegas Field Office.

[FR Doc. 07-5077 Filed 10-15-07; 8:45 am]

BILLING CODE 4310-HC-M